DEPARTMENT OF TRANSPORTATION

Federal Aviation Administration

14 CFR Part 71

[Airspace Docket No. 01-AEA-17]

Establishment of Class E Airspace at Sharon, PA

AGENCY: Federal Aviation Administration (FAA), DOT.

ACTION: Final rule; correction.

SUMMARY: This action corrects an error in the description of Shenango-UMPC Horizon Hospital Heliport, PA Class E5 airspace published as a final rule in the Federal Register on September 28, 2001, Airspace Docket Number 01-AEA-17FR. The final rule established Class E airspace at Sharon, PA.

EFFECTIVE DATE: May 2, 2002.

FOR FURTHER INFORMATION CONTACT: Mr. Francis Jordan, Airspace Specialist, Airspace Branch, AEA-520, Air Traffic Division, Eastern Region, Federal Aviation Administration, 1 Aviation Plaza, Jamaica, New York 11434-4809, telephone: (718) 553-4521.

SUPPLEMENTARY INFORMATION:

History

Federal Register Document 01-23938, Airspace Docket 01-AEA-17FR, published on September 28, 2001 (66 FR 49518-49519), established Class E5 airspace at Shenango-UMPC Horizon Hospital Heliport, Sharon, PA. An error was discovered in the description of the airspace in the latitude and the reference point for the description of the delegated airspace. This action corrects the description of the minutes of latitude and the reference point.

Correction to Final Rule

Accordingly, pursuant to the authority delegated to me, the airspace designation for the Shenango-UMPC Horizon Hospital Heliport, Sharon, PA Class E5 airspace, as published in the Federal Register on September 28, 2001 (66FR 49518-49519) is corrected as follows:

§ 71.1 [Corrected]

On page 49519, column 1, in the airspace designation for Sharon, PA correct the description to read: “That airspace extending upward from 700 feet above the surface within a 6 mile radius of the Point in Space for the SIAP RNAV262 to the Shenango-UMPC Hospital Heliport.”

Issued in Jamaica, New York on April 22, 2002.
Richard J. Ducharme,
Assistant Manager, Air Traffic Division, Eastern Region.

[FR Doc. 02-10938 Filed 5-1-02; 8:45 am]

BILLING CODE 4910-13-M